NUCLEAR REGULATORY COMMISSION

Draft Regulatory Guide; Extension of Comment Period

On December 16, 2004 (69 FR 75359-75360), the U.S. Nuclear Regulatory Commission (NRC) issued for public comment a draft revision to an existing guide in the agency's Regulatory Guide Series. Draft Regulatory Guide DG-1130, entitled “Criteria for Use of Computers in Safety Systems of Nuclear Power Plants,” is the proposed Revision 2 of Regulatory Guide 1.152. As such, DG-1130 describes a method that is acceptable to the NRC staff for complying with the NRC's regulations for promoting high functional reliability and design quality for the use of computers in safety systems of nuclear plants. In addition, DG-1130 contains the staff's regulatory position on the “Standard Criteria for Digital Computers in Safety Systems of Nuclear Power Generating Stations,” * which the Nuclear Power Engineering Committee of the Institute of Electrical and Electronics Engineers (IEEE) has promulgated as IEEE Std 7-4.3.2-2003. It is the staff's intent to endorse IEEE Std 7-4.3.2-2003, with certain exceptions, as an acceptable method for satisfying the NRC's regulations with respect to (1) high functional reliability and design requirements for computers used in safety systems of nuclear power plants, and (2) independence between safety software and nonsafety software residing on the same computer.

* IEEE publications may be purchased from the IEEE Service Center, 445 Hoes Lane, Piscataway, NJ 08854.

To date, the NRC has received only one comment letter concerning draft regulatory guide DG-1130; however, several stakeholders have asked the NRC to extend the comment period, which is currently scheduled to expire on February 11, 2005. Given that the draft regulatory guide addresses a relatively new area of technology (i.e., cyber-security), stakeholders may need additional time to assess the proposed regulatory guidance. Consequently, the NRC has decided to extend the comment period until March 14, 2005.

Comments received after March 14, 2005, will be considered if it is practical to do so, but the NRC is able to ensure consideration only for comments received on or before that date. Although a time limit is given, the NRC welcomes comments and suggestions at any time in connection with items for inclusion in guides that are currently being developed, as well as improvements to previously published guides.

Comments on draft regulatory guide DG-1130 may be accompanied by relevant information or supporting data. Please mention DG-1130 in the subject line of your comments. Comments on this draft regulatory guide submitted in writing or in electronic form will be made available to the public in their entirety in the NRC's Agencywide Documents Access and Management System (ADAMS). Personal information will not be removed from your comments. You may submit comments by any of the following methods.

Mail comments to: Rules and Directives Branch, Office of Administration, U.S. Nuclear Regulatory Commission, Washington, DC 20555-0001.

E-mail comments to: NRCREP@nrc.gov. You may also submit comments via the NRC's rulemaking Web site at http://ruleforum.llnl.gov. Address questions about our rulemaking Web site to Carol A. Gallagher (301) 415-5905; e-mail CAG@nrc.gov.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about draft regulatory guide DG-1130 may be directed to Satish K. Aggarwal, Senior Program Manager, at (301) 415-6005 or via e-mail to SKA@nrc.gov.

Electronic copies of the draft regulatory guide are available through the NRC's public Web site under Draft Regulatory Guides in the Regulatory Guides document collection of the NRC's Electronic Reading Room at http://www.nrc.gov/reading-rm/doc-collections/. Electronic copies are also available in the NRC's Agencywide Documents Access and Management System (ADAMS) at http://www.nrc.gov/reading-rm/adams.html, under Accession No. ML043170314. Note, however, that the NRC has temporarily suspended public access to ADAMS so that the agency can complete security reviews of publicly available documents and remove potentially sensitive information. Please check the NRC's Web site for updates concerning the resumption of public access to ADAMS.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548; and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to distribution@nrc.gov; or by fax to (301) 415-2289. Telephone requests cannot be accommodated. Regulatory guides are not copyrighted, and Commission approval is not required to reproduce them.

(5 U.S.C. 552(a))

Dated at Rockville, Maryland, this 9th day of February, 2005.
For the U.S. Nuclear Regulatory Commission.
Michael E. Mayfield,
Director, Division of Engineering Technology, Office of Nuclear Regulatory Research.

[FR Doc. 05-2950 Filed 2-15-05; 8:45 am]

BILLING CODE 7590-01-P